DEPARTMENT OF ENERGY

Federal Energy Regulatory Commission

Sunshine Act Meeting Notice

The following notice of meeting is published pursuant to section 3(a) of the government in the Sunshine Act (Pub. L. No. 94-409), 5 U.S.C. 552b:

Agency Holding Meeting: Federal Energy Regulatory Commission.

Date and Time: January 19, 2012, 10 a.m.

Place: Room 2C, 888 First Street NE., Washington, DC 20426.

Status: Open.

Matters To Be Considered: Agenda * Note—Items listed on the agenda may be deleted without further notice.

Contact Person For More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

977TH—Meeting, Regular Meeting, January 19, 2012, 10 a.m.
Item No. | Docket No. | Company
Administrative
A-1 | AD02-1-000 | Agency Business Matters.
A-2 | AD02-7-000 | Customer Matters, Reliability, Security and Market Operations.
Electric
E-1 | ER10-787-005, EL10-50-003, EL10-57-003 | ISO New England, Inc. and New England Power Pool Participants Committee.
| ER10-787-006, EL10-50-004 | New England Power Generators Association v. ISO New England Inc.
| EL10-57-004, ER10-787-007, EL10-50-005, EL10-57-005 | PSEG Energy Resources & Trade LLC, PSEG Power Connecticut LLC, NRG Power Marketing LLC, Connecticut Jet Power LLC, Devon Power LLC, Middletown Power LLC, Montville Power LLC, Norwalk Power LLC, and Somerset Power LLC v. ISO New England Inc.
E-2 | ER11-4105-000 | Southwest Power Pool, Inc.
E-3 | ER11-4336-000, ER11-4336-001, ER11-4336-002, ER11-4336-003 | ISO New England Inc.
E-4 | ER11-4338-000 | New York Independent System Operator, Inc.
E-5 | ER08-194-000, ER08-194-001, ER08-194-002, ER08-194-003, ER08-194-004 | Duquesne Light Company.
| ER08-1235-000, ER08-1235-001, ER08-1309-000, ER08-1370-000 | Midwest Independent Transmission System Operator, Inc. and Duquesne Light Company.
| ER08-1339-000, ER08-1339-001, ER08-1339-002, ER08-1345-000, ER08-1345-001, ER08-1345-002 | PMJ Interconnection, L.L.C.
E-6 | OMITTED
E-7 | RM10-5-000 | Interpretation of Protection System Reliability Standard.
E-8 | RD11-13-000 | North American Electric Reliability Corporation.
E-9 | EL11-62-000 | Public Service Commission of South Carolina and the South Carolina Office of Regulatory Staff.
E-10 | OMITTED
E-11 | OMITTED
E-12 | ER09-823-000 | MidAmerican Energy Company.
E-13 | EL11-63-000 | Louisiana Public Service Commission v. Entergy Corporation; Entergy Services, Inc.; Entergy Louisiana, LLC; Entergy Arkansas, Inc.; Entergy New Orleans, Inc.; Entergy Mississippi, Inc.; Entergy Gulf States Louisiana, L.L.C. and Entergy Texas, Inc.
E-14 | ER11-3657-000 | Entergy Services, Inc.
| EL11-64-000 | Mississippi Delta Energy Agency; Clarksdale Public Utilities Commission; Public Service Commission of Yazoo City; Arkansas Electric Cooperative Corporation and South Mississippi Electric Power Association v. Entergy Services, Inc.
E-15 | ER11-12-001, ER11-3445-000 | PJM Interconnection, L.L.C.
E-16 | EL07-86-018 | Ameren Services Company. Northern Indiana Public Service Company v. Midwest Independent Transmission System Operator, Inc.
| EL07-88-018 | Great Lakes Utilities; Indiana Municipal Power Agency; Missouri Joint Municipal Electric Utility Commission; Missouri River Energy Services; Prairie Power, Inc.; Southern Minnesota Municipal Power Agency; Wisconsin Public Power Inc. v. Midwest Independent Transmission System Operator, Inc.
| EL07-92-018 | Wabash Valley Power Association, Inc. v. Midwest Independent Transmission System Operator, Inc.
E-17 | EL11-57-000 | Louisiana Public Service Commission v. Entergy Corporation; Entergy Services, Inc.; Entergy Louisiana, LLC; Entergy Arkansas, Inc.; Entergy Mississippi, Inc.; Entergy New Orleans, Inc.; Entergy Gulf States Louisiana, LLC and Entergy Texas, Inc.
Miscellaneous
M-1 | RM11-30-000 | Technical Corrections to Commission Regulations.
Gas
G-1 | RM11-4-000 | Storage Reporting Requirements of Interstate and Intrastate Natural Gas Companies.
G-2 | OR11-21-000 | Kenai Pipe Line Company; Tesoro Alaska Company and Tesoro Logistics Operations, LLC.
G-3 | RP11-1432-000, RP11-1432-001 | ETC Tiger Pipeline, LLC.
Hydro
H-1 | P-7269-029 | James B. Boyd and Janet A. Boyd.
Certificates
C-1 | CP11-531-000 | Golden Triangle Storage, Inc.
C-2 | CP11-46-000 | Kern River Gas Transmission Company.

Dated: January 12, 2012.
Kimberly D. Bose,
Secretary.

A free Web cast of this event is available through www.ferc.gov. Anyone with Internet access who desires to view this event can do so by navigating to www.ferc.gov's Calendar of Events and locating this event in the Calendar. The event will contain a link to its Web cast. The Capitol Connection provides technical support for the free Web casts. It also offers access to this event via television in the DC area and via phone bridge for a fee. If you have any questions, visit www.CapitolConnection.org or contact Danelle Springer or David Reininger at (703) 993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2012-906 Filed 1-13-12; 11:15 am]

BILLING CODE 6717-01-P